DEPARTMENT OF HOMELAND SECURITY

Agency Information Collection Activities; Submission to the Office of Management and Budget for Review and Approval; Comment Request; Statewide Communication Interoperability Plan Template and Progress Report

AGENCY: Cybersecurity and Infrastructure Security Agency (CISA), Department of Homeland Security (DHS).

ACTION: 30-Day notice and request for comments; Information Collection Request; Revised Collection, 1670-0017.

SUMMARY: The Emergency Communications Division (ECD) within Cybersecurity and Infrastructure Security Agency (CISA) submits the following information collection request (ICR) to the Office of Management and Budget (OMB) for review and clearance. CISA previously published this information collection request (ICR) in the Federal Register on July 8, 2024, for a 60-day public comment period. One unrelated comment was received by CISA. The purpose of this notice is to allow additional 30-days for public comments. This is a revised reinstatement information collection.

DATES: Comments are encouraged and will be accepted until September 19, 2025. Submissions received after the deadline for receiving comments may not be considered.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: Heather Dalton, 202-809-2747, HEATHER.DALTON@CISA.DHS.GOV.

SUPPLEMENTARY INFORMATION: Cybersecurity and Infrastructure Security Agency (CISA), Emergency Communications Division (ECD), formed under Title XVIII of the Homeland Security Act of 2002, 6 U.S.C. 571 et seq., is required, pursuant to 6 U.S.C. 572, to develop the National Emergency Communications Plan (NECP), which includes identification of goals, timeframes, and appropriate measures to achieve interoperable communications capabilities. The Statewide Communication Interoperability Plan (SCIP) Template and Annual SCIP Snapshot Report are designed to meet and support these statutory requirements.

ECD will use the information from the SCIP Template and Annual SCIP Snapshot to track the progress States are making in implementing milestones and demonstrating goals of the NECP, as required through the Homeland Security Act of 2002, 6 U.S.C. 572. The SCIP Template and Annual SCIP Snapshot will provide OEC with broader capability data across the lanes of the Interoperability Continuum, which are key indicators of consistent success in response-level communications. In addition, the SCIP Template and the SCIP Snapshot will assist States in their strategic planning for interoperable and emergency communications while demonstrating each State's achievements and challenges in accomplishing optimal interoperability for emergency responders. Moreover, certain government grants may require States to update their SCIP Templates and SCIP Snapshot to include broadband efforts in order to receive funding for interoperable and emergency communications. Statewide Interoperability Coordinators (SWICs) will be responsible for collecting this information from their respective stakeholders and governance bodies and will complete and submit the SCIP Snapshots directly to ECD through unclassified electronic submission. The SCIP Template and Annual SCIP Snapshot may be submitted through unclassified electronic submission to ECD by each State's SWIC in addition to being able to submit their respective SCIP Template and Annual SCIP Snapshot via email to heather.dalton@cisa.dhs,gov. ECD streamlined its annual SCIP reporting process to obtain standard data to understand progress and challenges in emergency communications planning. ECD replaced the lengthier Annual Progress Report with the SCIP Snapshot as a reporting mechanism for States and territories for submitting SCIP progress, achievements and challenges. The data collected is based on calendar year reporting. The SCIP Snapshot also includes sections for States and territories to report on the status of governance structures, progress towards SCIP goals and initiatives, and overall successes and challenges in advancing interoperable emergency communications.

Analysis

Agency: Cybersecurity and Infrastructure Security Agency (CISA), Department of Homeland Security (DHS).

Title: Statewide Communication Interoperability Plan (SCIP) Template and Progress Report.

OMB Number: 1670-0017.

Frequency: Annually.

Affected Public: State, local, Tribal, and Territorial governments.

Number of Respondents: 56.

Estimated Time per Respondent: 6.

Total Burden Hours: 336.

Total Annual Burden Cost: $29,950.

Total Government Burden Cost: $18,208.

Robert J. Costello,
Chief Information Officer, Department of Homeland Security, Cybersecurity and Infrastructure Security Agency.

[FR Doc. 2025-15712 Filed 8-18-25; 8:45 am]

BILLING CODE 9111-LF-P